DEPARTMENT OF COMMERCE

National Oceanic and Atmospheric Administration

[I.D. 042505A]

Pacific Fishery Management Council; Public Meeting

AGENCY: National Marine Fisheries Service (NMFS), National Oceanic and Atmospheric Administration (NOAA), Commerce.

ACTION: Notice of public meeting.

SUMMARY: The Pacific Fishery Management Council's (Council) Coastal Pelagic Species Management Team (CPSMT) will hold a work session, which is open to the public. The CPSMT will meet Wednesday, May 18, 2005 from 8 a.m. until business for the day is completed.

DATES: The CPSMT will meet Wednesday, May 18, 2005 from 8 a.m. until business for the day is completed.

DATES: The CPSMT work session will be held at National Marine Fisheries Service, Southwest Fisheries Science Center, Small Conference Room (D-203), 8604 La Jolla Shores Drive, La Jolla, California 92037, (858) 546-7000.

Council address: Pacific Fishery Management Council, 7700 NE Ambassador Place, Suite 200, Portland, OR 97220-1384.

FOR FURTHER INFORMATION CONTACT: Mr. Mike Burner, Pacific Fishery Management Council, (503) 820-2280.

SUPPLEMENTARY INFORMATION: The CPSMT will review the current Pacific mackerel stock assessment and develop harvest guideline and seasonal structure recommendations for the 2005-2006 fishery. The CPSMT will also review the 2005 CPS stock assessment and fishery evaluation (SAFE) document and analyses pertaining to a long-term allocation framework to apportion the annual Pacific sardine harvest guideline. Additionally, the CPSMT will develop recommendations for Council consideration at its June meeting in Foster City, CA review progress on development of management measures to regulate directed fisheries for krill, receive an update on Vessel Monitoring System issues, and address other assignments relating to coastal pelagic species management. No management actions will be decided by the CPSMT.

Although nonemergency issues not contained in the meeting agenda may come before the CPSMT for discussion, those issues may not be the subject of formal CPSMT action during this meeting. CPSMT action will be restricted to those issues specifically listed in this notice and any issues arising after publication of this notice that require emergency action under Section 305(c) of the Magnuson-Stevens Fishery Conservation and Management Act, provided the public has been notified of the CPSMT's intent to take final action to address the emergency.

Special Accommodations

This meeting is physically accessible to people with disabilities. Requests for sign language interpretation or other auxiliary aids should be directed to Ms. Carolyn Porter at 503-820-2280 at least 5 days prior to the meeting date.

Dated: April 25, 2005.
Peter H. Fricke,
Acting Director, Office of Sustainable Fisheries, National Marine Fisheries Service.

[FR Doc. 05-8524 Filed 4-27-05; 8:45 am]

BILLING CODE 3510-22-S